DEPARTMENT OF THE INTERIOR

National Park Service

[N6893; NPS-WASO-NAGPRA-NPS0041891; PPWOCRADN0-PCU00RP14.R50000]

Notice of Intended Repatriation: Indianapolis Museum of Art, Inc. D.B.A. Newfields, Indianapolis, IN

AGENCY: National Park Service, Interior.

ACTION: Notice.

SUMMARY: In accordance with the Native American Graves Protection and Repatriation Act (NAGPRA), the Indianapolis Museum of Art, Inc. D.B.A. Newfields intends to repatriate certain cultural items that meet the definition of sacred objects and that have a cultural affiliation with the Indian Tribes or Native Hawaiian organizations in this notice.

DATES: Repatriation of the cultural items in this notice may occur on or after February 26, 2026.

ADDRESSES: Send additional, written requests for repatriation of the cultural items in this notice to Jennifer Gallatin Rigsby, Indianapolis Museum of Art, Inc. D.B.A. Newfields, 4000 Michigan Road, Indianapolis, IN 46208, email jrigsby@discovernewfields.org.

SUPPLEMENTARY INFORMATION: This notice is published as part of the National Park Service's administrative responsibilities under NAGPRA. The determinations in this notice are the sole responsibility of the Indianapolis Museum of Art, Inc. D.B.A. Newfields, and additional information on the determinations in this notice, including the results of consultation, can be found in the summary or related records. The National Park Service is not responsible for the determinations in this notice.

Abstract of Information Available

A total of two cultural items have been requested for repatriation. The two sacred objects are `umele' or wood bowls. Both bowls were obtained by Vice Admiral Albery Parker Niblack who served in the United States Navy for 47 years in many different capacities: explorer, scientist, Naval Attaché to various European and South American countries, sea commander, and as post-WWI Director of Naval Intelligence. It is unknown when he obtained them, they were passed down to his wife, Mary Augusta Niblack and his sister, Eliza Maria Niblack, who donated them to the museum in 1930 and 1948.

Determinations

The Indianapolis Museum of Art, Inc. D.B.A. Newfields, has determined that:

• The two sacred objects described in this notice are, according to the Native American traditional knowledge of an Indian Tribe or Native Hawaiian organization, specific ceremonial objects needed by a traditional Native American religious leader for present-day adherents to practice traditional Native American religion, and have ongoing historical, traditional, or cultural importance central to the Native American group, including any constituent sub-group (such as a band, clan, lineage, ceremonial society, or other subdivision). These two wood bowls are needed by a traditional religious leader for present-day adherents to renew the traditional Native Hawaiian religious ceremony of `ike pāpālua', which involves spiritual communication with their ancestors.

• There is a connection between the cultural items described in this notice and the Hui Iwi Kuamo'o.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after February 26, 2026. If competing requests for repatriation are received, the Indianapolis Museum of Art, Inc. D.B.A. Newfields, must determine the most appropriate requestor prior to repatriation. Requests for joint repatriation of the cultural items are considered a single request and not competing requests. The Indianapolis Museum of Art, Inc. D.B.A. Newfields is responsible for sending a copy of this notice to the Indian Tribes and Native Hawaiian organizations identified in this notice and to any other consulting parties.

Authority: Native American Graves Protection and Repatriation Act, 25 U.S.C. 3004 and the implementing regulations, 43 CFR 10.9.

Dated: January 15, 2026.
Melanie O'Brien,
Manager, National NAGPRA Program.

[FR Doc. 2026-01541 Filed 1-26-26; 8:45 am]

BILLING CODE 4312-52-P